OFFICE OF THE UNITED STATES TRADE REPRESENTATIVE

[Dispute No. WTO/DS464]

WTO Dispute Settlement Proceeding Regarding Anti-Dumping and Countervailing Measures on Large Residential Washers From Korea

AGENCY: Office of the United States Trade Representative.

ACTION: Notice; request for comments.

SUMMARY: The Office of the United States Trade Representative (“USTR”) is providing notice that on August 29, 2013, the Republic of Korea (“Korea”) requested consultations with the United States under the Marrakesh Agreement Establishing the World Trade Organization (“WTO Agreement”) concerning antidumping and countervailing duty measures regarding large residential washers (“washers”) from Korea. That request may be found at www.wto.org in a document designated as WT/DS464/1. USTR invites written comments from the public concerning the issues raised in this dispute.

DATES: Although USTR will accept any comments received during the course of the dispute settlement proceedings, comments should be submitted on or before October 11, 2013, to be assured of timely consideration by USTR.

ADDRESSES: Public comments should be submitted electronically to www.regulations.gov, docket number USTR-2013-0031. If you are unable to provide submissions by www.regulations.gov, please contact Sandy McKinzy at (202) 395-9483 to arrange for an alternative method of transmission.

If (as explained below) the comment contains confidential information, then the comment should be submitted by fax only to Sandy McKinzy at (202) 395-3640.

FOR FURTHER INFORMATION CONTACT: J. Daniel Stirk, Associate General Counsel, Office of the United States Trade Representative, 600 17th Street NW., Washington, DC 20508, (202) 395-3150.

SUPPLEMENTARY INFORMATION: USTR is providing notice that consultations have been requested pursuant to the WTO Understanding on Rules and Procedures Governing the Settlement of Disputes (“DSU”). If such consultations should fail to resolve the matter and a dispute settlement panel is established pursuant to the DSU, such panel would hold its meetings in Geneva, Switzerland.

Major Issues Raised by Korea

On August 29, 2013, Korea requested consultations concerning antidumping and countervailing duty measures on washers from Korea. With respect to the antidumping measures, Korea challenges any determination by the Department of Commerce (“Commerce”) in which Commerce has applied or may apply a methodology that Korea describes as “zeroing.” Korea's challenge includes the completed antidumping investigation of washers from Korea, as well as future preliminary and final determinations in administrative reviews, new shipper reviews, sunset reviews and changed circumstances reviews. Korea also challenges any determination by Commerce in the washers antidumping proceeding in which Commerce has applied or may apply the second sentence of Article 2.4.2 of the Agreement on Implementation of Article VI of the GATT 1994 (“AD Agreement”) so as to use a methodology that Korea describes as “zeroing.”

In addition, Korea challenges what it describes as “[t]he United States' methodology of `zeroing' as such when using the weighted average-to-transaction comparison methodology in anti-dumping investigations, administrative reviews and other segments of anti-dumping proceedings.” Korea also challenges Commerce's “methodology for applying the second sentence of Article 2.4.2 as such.”

With respect to the countervailing duty measures on washers from Korea, Korea challenges Commerce's determination that Article 10(1)(3) of Korea's Restriction of Special Taxation Act (“RSTA”) is a subsidy that is specific within the meaning of Article 2.1 of the Agreement on Subsidies and Countervailing Measures (“SCM Agreement”), and Commerce's determination of the amount of subsidy benefit received by a respondent.

Korea also challenges Commerce's determination that Article 26 of the RSTA is a regionally specific subsidy, and Commerce's imposition of countervailing duties on one respondent that were attributable to tax credits that the respondent received for investments that it made under Article 26 of the RSTA.

Finally, Korea challenges Commerce's treatment of the Korea Development Bank (“KDB”) and Industrial Bank of Korea (“IBK”) as public bodies within the meaning of Article 1.1(a)(1)(i) of the SCM Agreement as well as Commerce's determination that “the financing provided by the KDB and IBK were commercially unreasonable and thus conferred benefit within the meaning of [Article 1.2 and Article 14 of the SCM Agreement].”

Korea alleges inconsistencies with Articles 1, 2, 2.1, 2.4, 2.4.2, 5.8, 9.3, 9.4, 9.5, 11, and 18.4 of the AD Agreement, Articles 1.1, 1.2, 2.1, 2.2, 10, 14, and 19.4 of the SCM Agreement, Articles VI, VI:1, VI:2, and VI:3 of the General Agreement on Tariffs and Trade 1994 (“GATT 1994”), and Article XVI:4 of the WTO Agreement.

Public Comment: Requirements for Submissions

Interested persons are invited to submit written comments concerning the issues raised in this dispute. Persons may submit public comments electronically to www.regulations.gov docket number USTR-2013-0031. If you are unable to provide submissions by www.regulations.gov, please contact Sandy McKinzy at (202) 395-9483 to arrange for an alternative method of transmission.

To submit comments via www.regulations.gov, enter docket number USTR-2013-0031 on the home page and click “search”. The site will provide a search-results page listing all documents associated with this docket. Find a reference to this notice by selecting “Notice” under “Document Type” on the left side of the search-results page, and click on the link entitled “Submit a Comment” (For further information on using the www.regulations.gov Web site, please consult the resources provided on the Web site by clicking on “How to Use This Site” on the left side of the home page.)

The www.regulations.gov Web site allows users to provide comments by filling in a “Type Comments” field, or by attaching a document using an “Upload File” field. It is expected that most comments will be provided in an attached document. If a document is attached, it is sufficient to type “See attached” in the “Type Comments” field.

A person requesting that information contained in a comment that he/she submitted be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to www.regulations.gov. The non-confidential summary will be placed in the docket and will be open to public inspection.

USTR may determine that information or advice contained in a comment submitted, other than business confidential information, is confidential in accordance with Section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to www.regulations.gov. The non-confidential summary will be placed in the docket and will be open to public inspection.

Pursuant to section 127(e) of the Uruguay Round Agreements Act (19 U.S.C. 3537(e)), USTR will maintain a docket on this dispute settlement proceeding, docket number USTR-2013-0031, accessible to the public at www.regulations.gov. The public file will include non-confidential comments received by USTR from the public regarding the dispute. If a dispute settlement panel is convened, or in the event of an appeal from such a panel, the following documents will be made available to the public at www.ustr.gov: The United States' submissions, any non-confidential submissions received from other participants in the dispute, and any non-confidential summaries of submissions received from other participants in the dispute. In the event that a dispute settlement panel is convened, or in the event of an appeal from such a panel, the report of the panel, and, if applicable, the report of the Appellate Body, will also be available on the Web site of the World Trade Organization, at www.wto.org. Comments open to public inspection may be viewed at www.regulations.gov.

Juan Millan,
Assistant United States Trade Representative for Monitoring and Enforcement.

[FR Doc. 2013-23030 Filed 9-20-13; 8:45 am]

BILLING CODE 3290-F3-P